SECURITIES AND EXCHANGE COMMISSION

[File No. 500-1]

Asian Dragon Group, Inc., Atlas Minerals, Inc. (n/k/a Atlas Corporation), Bluesky Systems Holdings, Inc. (f/k/a Bluesky Systems Corp.), CPC of America, Inc., Mezabay International, Inc., and Power3 Medical Products, Inc. (a/k/a Power 3 Medical Products, Inc.), Order of Suspension of Trading

September 15, 2014.

It appears to the Securities and Exchange Commission that there is a lack of current and accurate information concerning the securities of Asian Dragon Group, Inc. because it has not filed any periodic reports since the period ended May 31, 2011.

It appears to the Securities and Exchange Commission that there is a lack of current and accurate information concerning the securities of Atlas Minerals, Inc. (n/k/a Atlas Corporation) because it has not filed any periodic reports since the period ended December 31, 2003.

It appears to the Securities and Exchange Commission that there is a lack of current and accurate information concerning the securities of Bluesky Systems Holdings, Inc. (f/k/a Bluesky Systems Corp.) because it has not filed any periodic reports since the period ended September 30, 2011.

It appears to the Securities and Exchange Commission that there is a lack of current and accurate information concerning the securities of CPC of America, Inc. because it has not filed any periodic reports since the period ended September 30, 2011.

It appears to the Securities and Exchange Commission that there is a lack of current and accurate information concerning the securities of Mezabay International, Inc. because it has not filed any periodic reports since the period ended June 30, 2010.

It appears to the Securities and Exchange Commission that there is a lack of current and accurate information concerning the securities of Power3 Medical Products, Inc. (a/k/a Power 3 Medical Products, Inc.) because it has not filed any periodic reports since the period ended September 30, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. E.D.T. on September 15, 2014, through 11:59 p.m. E.D.T. on September 26, 2014.

By the Commission.
Jill M. Peterson,
Assistant Secretary.

[FR Doc. 2014-22262 Filed 9-15-14; 4:15 pm]

BILLING CODE 8011-01-P